DEPARTMENT OF AGRICULTURE

Forest Service

Okanogan-Wenatchee National Forest; Okanogan, Chelan and Skagit Counties, Washington; Pack Stock Outfitter Guide Special Use Permits Supplemental Environmental Impact Statement

AGENCY: Forest Service, USDA.

ACTION: Notice to extend the public comment period for the Pack and Saddle Stock Outfitter Guide Special Use Permit Issuance Draft Supplemental Environmental Impact Statement.

SUMMARY: The Okanogan-Wenatchee National Forest is issuing this notice to advise the public of a 30-day extension to the public comment period on the Pack and Saddle Stock Outfitter Guide Special Use Permit Issuance Draft Supplemental Environmental Impact Statement (SEIS). The initial Notice of Availability was published in the Federal Register on November 25, 2016, and established a public comment period from November 25, 2016 through January 9, 2017. The Okanogan-Wenatchee National Forest is hereby extending the deadline for submitting public comments on this matter to February 8, 2017.

DATES: The Okanogan-Wenatchee National Forest is accepting public comments through February 8, 2017. The forest is soliciting the views of interested persons and organizations on the adequacy of the DSEIS. All relevant comments received during the extended public commenter period ending February 8, 2017, will be considered in the preparation of the Final Supplemental Environmental Impact Statement (FSEIS).

ADDRESSES: Comments may be submitted by any one of the following methods:

• Electronic Submissions: Submit all electronic public comments via the Forest Service ecosystem management database. Go to: https://cara.ecosystem-management.org/Public//CommentInput?Project=3752, and click the “Comment Now” icon, complete the required fields and enter or attach your comments.

• Mail: Written, specific comments must be submitted to Forest Supervisor, Okanogan-Wenatchee National Forest, c/o Jennifer Zbyszewski, 24 West Chewuch Road, Winthrop, WA 98862; Fax (509) 996-2208.

Instructions: Comments sent by any other method, to any other address or individual, or received after the end of the comment period may not be considered by the forest. All comments received are part of the public record and will generally be posted for public viewing without change. All personal identifying information (e.g., name, address, etc.), confidential business information, or otherwise sensitive information submitted voluntarily by the sender will be publicly accessible.

FOR FURTHER INFORMATION CONTACT: Jennifer Zbyszewski, Project Team Leader, Methow Valley Ranger District, Okanogan-Wenatchee National Forest, (509) 996-4021, jzbysewski@fs.fed.us, or Paul Willard, Recreation Program Manager, Chelan Ranger District, Okanogan-Wenatchee National Forest, (509) 682-4960, pwillard@fs.fed.us. Individuals who use telecommunication devices for the deaf (TDD) may call the Federal Information Relay Service (FIRS) at 1-800-877-8339 between 8 a.m. and 8 p.m., Eastern Time, Monday through Friday. Electronic copies of the Draft Supplemental Environmental Impact Statement may be found on the Forest Service Web site at www.fs.usda.gov/project/?project=3752.

Michael R. Williams,
Forest Supervisor.

[FR Doc. 2016-31574 Filed 12-28-16; 8:45 am]

BILLING CODE 3411-15-P